ENVIRONMENTAL PROTECTION AGENCY

[EPA-R07-OW-2016-0602; FRL-9954-74-Region 7]

Notice of Approval of the Primacy Revision Application for the Public Water Supply Supervision Program from the State of Missouri

AGENCY: Environmental Protection Agency (EPA).

ACTION: Notice of approval and solicitation of requests for a public hearing.

SUMMARY: The Environmental Protection Agency (EPA) is hereby giving notice that the State of Missouri is revising its approved Public Water Supply Supervision Program delegated to the Missouri Department of Natural Resources. EPA has reviewed the application and intends to approve these program revisions.

DATES: This determination to approve the Missouri program revision is made pursuant to 40 CFR 142.12(d) (3). This determination shall become final and effective on December 1, 2016, unless (1) a timely and appropriate request for a public hearing is received or (2) the Regional Administrator elects to hold a public hearing on his own motion. Any interested person, other than Federal Agencies, may request a public hearing.

A request for a public hearing must be submitted to the Regional Administrator at the address shown below by December 1, 2016. If a request for a public hearing is made within the requested thirty-day time frame, a public hearing will be held and a notice will be given in the Federal Register and a newspaper of general circulation. Frivolous or insubstantial requests for a hearing may be denied by the Regional Administrator. If no timely and appropriate request for a hearing is received, and the Regional Administrator does not elect to hold a hearing on his own motion, this determination will become effective on December 1, 2016.

All interested parties may request a public hearing on the approval to the Regional Administrator at the EPA Region 7 address shown below.

ADDRESSES: Any request for a public hearing shall include the following information: (1) Name, address and telephone number of the individual, organization or other entity requesting a hearing; (2) a brief statement of the requesting person's interest in the Regional Administrator's determination and a brief statement on information that the requesting person intends to submit at such hearing; (3) the signature of the individual making the request or, if the request is made on behalf of an organization or other entity, the signature of a responsible official of the organization or other entity. Requests for Public Hearing shall be addressed to: Regional Administrator, Environmental Protection Agency, Region 7, 11201 Renner Boulevard, Lenexa, Kansas 66219.

All documents relating to this determination are available for inspection between the hours of 9:00 a.m. and 3:00 p.m., Monday through Friday at the following offices: (1) U.S. Environmental Protection Agency, Region 7, Water Wetlands and Pesticides Division, Drinking Water Management Branch, 11201 Renner Boulevard, Lenexa, Kansas 66219 and (2) the Missouri Department of Natural Resources, Lewis and Clark State Office Building, 1101 Riverside Drive, Jefferson City, Missouri 65102.

Submit your comments, identified by Docket ID No. EPA-R07-OW-2016-0602, to http://www.regulations.gov. Follow the online instructions for submitting comments. Once submitted, comments cannot be edited or removed from Regulations.gov. The EPA may publish any comment received to its public docket. Do not submit electronically any information you consider to be Confidential Business Information (CBI) or other information whose disclosure is restricted by statute. Multimedia submissions (audio, video, etc.) must be accompanied by a written comment. The written comment is considered the official comment and should include discussion of all points you wish to make. The EPA will generally not consider comments or comment contents located outside of the primary submission (i.e. on the web, cloud, or other file sharing system). For additional submission methods, the full EPA public comment policy, information about CBI or multimedia submissions, and general guidance on making effective comments, please visit http://www2.epa.gov/dockets/commenting-epa-dockets.

FOR FURTHER INFORMATION CONTACT: Neftali Hernandez, Environmental Protection Agency, Region 7, Drinking Water Management Branch, (913) 551-7036, or by email at hernandez-santiago.neftali@epa.gov.

SUPPLEMENTARY INFORMATION: The EPA is hereby giving notice that the State of Missouri is revising its approved Public Water Supply Supervision Program delegated to the Missouri Department of Natural Resources. The Missouri Department of Natural Resources revised their program by incorporating the following EPA National Primary Drinking Water Regulation: Ground Water Rule (November 8, 2006, 71 FR 65574). EPA has reviewed the application and determined that the revisions are no less stringent than the corresponding Federal regulations and that the State of Missouri continues to meet all requirements for primary enforcement responsibility as specified in 40 CFR 142.10. Therefore, EPA intends to approve these program revisions.

(Authority: Section 1413 of the Safe Drinking Water Act, as amended, and 40 CFR 142.10, 142.12(d) and 142.13)

Dated: October 19, 2016.
Mark Hague,
Regional Administrator, Region 7.

[FR Doc. 2016-26372 Filed 10-31-16; 8:45 am]

BILLING CODE 6560-50-P